DEPARTMENT OF THE INTERIOR

Fish and Wildlife Service

[FWS-R4-ES-2014-N094; 40120-1112-0000-F2]

Incidental Take Permit and Environmental Assessment for Erosion Armoring and Beachfront Activities Regulated by the Walton County Board of County Commissioners in Walton County, Florida

AGENCY: Fish and Wildlife Service, Interior.

ACTION: Notice.

SUMMARY: Under the Endangered Species Act (Act), we, the U.S. Fish and Wildlife Service, announce the receipt and availability of a proposed habitat conservation plan (HCP) and accompanying documents for beachfront activities regulated by the Walton County Board of Commissioners (applicant), which would take the loggerhead sea turtle, green sea turtle, leatherback sea turtle, Kemp's ridley sea turtle, piping plover, and Choctawhatchee beach mouse, incidental to activities as conducted or permitted by the applicant in Walton County, Florida. We invite public comments on these documents.

DATES: We must receive any written comments at our Regional Office (see ADDRESSES) on or before September 15, 2014.

ADDRESSES: Documents are available for public inspection by appointment during normal business hours at the Fish and Wildlife Service's Regional Office, 1875 Century Boulevard, Suite 200, Atlanta, GA 30345; or Ecological Services Field Office, Fish and Wildlife Service, 1601 Balboa Avenue, Panama City, FL 32405.

FOR FURTHER INFORMATION CONTACT: Mr. David Dell, Regional HCP Coordinator, (see ADDRESSES), telephone: 404-679-7313; or Ms. Kristi Yanchis, Field Office Project Manager, at the Panama City Field Office (see ADDRESSES), telephone: 850-769-0552.

SUPPLEMENTARY INFORMATION: We announce the availability of the proposed HCP, incidental take permit (ITP) application, and an environmental assessment (EA), which analyze the take of loggerhead sea turtle (Caretta caretta), green sea turtle (Chelonia mydas), leatherback sea turtle (Dermochelys coriacea), Kemp's ridley sea turtle (Lepidochelys kempii), the nonbreeding piping plover (Charadrius melodus), and the Choctawhatchee beach mouse (Peromyscus polionotus allophrys), incidental to activities as conducted or permitted by the applicant. The applicant requests a 25-year ITP under section 10(a)(1)(B) of the Endangered Species Act of 1973 (Act; 16 U.S.C. 1531 et seq.), as amended. The Applicant's HCP describes the mitigation and minimization measures proposed to address the impacts to the species.

We specifically request scientific or technical information, views, and opinions from the public via this notice on our proposed Federal action, including identification of any other aspects of the human environment not already identified in the EA pursuant to National Environmental Policy Act (NEPA) regulations in the Code of Federal Regulations (CFR) at 40 CFR 1506.6. Further, we specifically solicit information regarding the adequacy of the HCP per 50 CFR parts 13 and 17.

The EA assesses the likely environmental impacts associated with the implementation of the activities, including the environmental consequences of the no-action alternative and the proposed action. The proposed action alternative is issuance of the ITP and implementation of the HCP as submitted by the applicant. The HCP covers activities conducted or permitted by the applicant, and includes installation of beachfront armoring (temporary or permanent); beach crossovers at public access points; County and public beach driving and vehicular beach access-related activities; sale or rental of merchandise, services, goods, or property by beach vendors, as permitted by Walton County; and beach placement of temporary vending equipment storage boxes. Avoidance, minimization, and mitigation measures include: Providing a process for the permitting and implementation of emergency armoring measures initiated under the County's permitting authority; developing and implementing guidelines to minimize disturbances to sea turtles and their nests, shorebirds, and beach mice caused by the operation of official vehicles involved in public safety, beach maintenance, law enforcement, HCP implementation, and other official business on County beaches; implementing new requirements to minimize impacts to sea turtles and their nests caused by the operation of private vehicles on County beaches; developing and implementing guidelines for beach vendors regarding the transport, placement, and storage of merchandise, equipment, and supplies to reduce interference with sea turtle nest protection activities; developing and implementing a multi-faceted public awareness program to educate residents and visitors of the importance of the County's beaches to the conservation and recovery of protected species; adopting and enforcing a beachfront lighting ordinance to reduce nighttime disturbances to sea turtles, piping plovers, and beach mice; and implementing an effective monitoring program for all species covered under the ITP to identify and ameliorate factors impeding their recovery.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE43711A-0 in such comments. You may mail comments to the Fish and Wildlife Service's Regional Office (see ADDRESSES). You may also comment via the Internet to david_dell@fws.gov. Please include your name and return address in your internet message. If you do not receive a confirmation from us that we have received your internet message, contact us directly at either telephone number listed under FOR FURTHER INFORMATION CONTACT.

Finally, you may hand-deliver comments to either of our offices listed under ADDRESSES.

Covered Area

The area encompassed under the HCP and ITP application consists of approximately 20 miles of beachfront along the Gulf of Mexico on non-State lands, from the Bay/Walton to the Okaloosa/Walton County line.

Next Steps

We will evaluate the ITP application, including the HCP and any comments we receive, to determine whether the application meets the requirements of section 10(a)(1)(B) of the Act. We will also evaluate whether issuance of the section 10(a)(1)(B) ITP complies with section 7 of the Endangered Species Act by conducting an intra-Service section 7 consultation. We will use the results of this consultation, in combination with the above findings, in our final analysis to determine whether or not to issue the ITP. If we determine that the requirements are met, we will issue the ITP for the incidental take of loggerhead sea turtle, green sea turtle, leatherback sea turtle, Kemp's ridley sea turtle, piping plover, and Choctawhatchee beach mouse.

Authority

We provide this notice under section 10 of the Act (16 U.S.C. 1531 et seq.) and NEPA regulations (40 CFR 1506.6).

Dated: May 29, 2014.
Mike Oetker,
Acting Regional Director.

[FR Doc. 2014-16721 Filed 7-15-14; 8:45 am]

BILLING CODE 4310-55-P